DEPARTMENT OF HEALTH AND HUMAN SERVICES

Centers for Medicare & Medicaid Services

[Document Identifier: CMS-10078, CMS-10288, CMS-10289 and CMS-10097]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension without change of a currently approved collection; Title of Information Collection: Matching Grants to States for the Operation of High Risk Pools; Use: CMS is requiring this information as a condition of eligibility for grants that were authorized in the Trade Act of 2002, the Deficit Reduction Act of 2005 and the State High Risk Pool Funding Extension Act of 2006. The information is necessary to determine if a State applicant meets the necessary eligibility criteria for a grant as required by law. The respondents will be States that have a high risk pool as defined in sections 2741, 2744, or 2745 of the Public Health Service Act. The grants will provide funds to States that incur losses in the operation of high risk pools. High risk pools are set up by States to provide health insurance to individuals that cannot obtain health insurance in the private market because of a history of illness; Form Numbers: CMS-10078 (OMB#: 0938-0887); Frequency: Recordkeeping, Reporting—Occasionally; Affected Public: State, Local and Tribal Governments; Number of Respondents: 31; Total Annual Responses: 31; Total Annual Hours: 1,240. (For policy questions regarding this collection contact Paul Scholz at 410-786-6178. For all other issues call 410-786-1326.)

2. Type of Information Collection Request: New Collection; Title of Information Collection: State Plan Pre-Print to Implement Required Dental Benefits Pursuant of Children's Health Insurance Program Reauthorizing Act (CHIPRA) 2009; Use: Section 501 of CHIPRA 2009 amends XXI and requires that “child health assistance provide to a targeted low-income child shall include coverage of dental services necessary to prevent disease and promote oral health, restore oral structures to health and function, and treat emergency conditions.” States that provide coverage in a separate Children's Health Insurance Program may choose between two methods of providing the dental services required in Section 501. The State may define the services in the dental benefit package and demonstrate that it includes all the required services. Alternatively, the State may provide a dental benefit package that is equivalent to one of the three benchmark packages described in the statute. In order to implement one of these options and comply with the statute, States must amend their State Plan using the State Plan pre-print. Form Number: CMS-10288 (OMB#: 0938-NEW); Frequency: Reporting One-time; Affected Public: State, Local, or Tribal Governments; Number of Respondents: 51; Total Annual Responses: 51; Total Annual Hours: 1530. (For policy questions regarding this collection contact Nancy Goetschius at 410-786-0707. For all other issues call 410-786-1326.)

3. Type of Information Collection Request: New Collection; Title of Information Collection: Optional Dental-only Supplemental Coverage State Plan Amendment Template; Use: CHIPRA 2009 provides States with an option to provide supplemental dental-only coverage to children who would be eligible to enroll in the State's Children's Health Insurance Program (CHIP), except that they already have health insurance coverage, either through a group health plan or employer sponsored insurance. If the health insurance plan the child is enrolled in does not provide dental benefits, the State may provide the child with the same State-defined dental package or benchmark benefit plan provided to children who are eligible for the entire CHIP benefit package. The child will only be entitled to the dental services provided to other CHIP children.

In order to choose this option, States must comply with all other requirements of the statute regarding cost sharing, income eligibility level, absence of a waiting list for their entire CHIP program (not just for dental coverage), and not providing more favorable treatment to children eligible for the supplemental dental benefit under this option. In order to implement this option States must amend their State Plan using the Supplemental Dental Benefits State Plan Amendment Template. Form Number: CMS-10289 (OMB#: 0938-NEW); Frequency: Reporting One-time; Affected Public: State, Local, or Tribal Governments; Number of Respondents: 51; Total Annual Responses: 51; Total Annual Hours: 1020. (For policy questions regarding this collection contact Nancy Goetschius at 410-786-0707. For all other issues call 410-786-1326.)

2. Type of Information Collection Request: Revision of a currently approved collection; Title of Information Collection: The Medicare Contractor Provider Satisfaction Survey (MCPSS); Use: Section 911 of the Medicare Prescription Drug, Improvement, and Modernization Act of 2003 (MMA) mandated that CMS develop contract performance requirements and standards for measuring provider satisfaction. CMS developed the MCPSS to meet this requirement. Each year CMS obtains information from Medicare providers and suppliers via a survey about satisfaction, attitudes, and perceptions regarding the services provided by Medicare fee-for-service (FFS) contractors, i.e., carriers, fiscal intermediaries (FIs), regional home health intermediaries (RHHIs), durable medical equipment Medicare administrative contractors (DME MACs) and Part A/Part B MACs. The survey focuses on basic business functions provided by the Medicare contractors, such as provider inquiries, provider outreach and education, claims processing, appeals, provider enrollment, medical review, and provider audit and reimbursement. CMS uses the survey to monitor its contractors and to provide incentives for improved performance.

CMS seeks to minimally revise the survey instrument for the 2010 administration. CMS would like to obtain more focused feedback on the providers' perception of their interactions with their contractor. By narrowing the focus of the questions, CMS can provide more specific feedback to the contractors in targeted areas of performance. Form Number: CMS-10097 (OMB#: 0938-0915); Frequency: Reporting—Yearly; Affected Public: Business or other for-profits and Not-for-profit institutions; Number of Respondents: 25,000; Total Annual Responses: 25,000; Total Annual Hours: 9,349. (For policy questions regarding this collection contact Teresa Mundell at 410-786-9176. For all other issues call 410-786-1326.)

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on October 13, 2009.

OMB, Office of Information and Regulatory Affairs, Attention: CMS Desk Officer, Fax Number: (202) 395-6974, E-mail: OIRA_submission@omb.eop.gov.

Dated: September 4, 2009.
Michelle Shortt,
Director, Regulations Development Group, Office of Strategic Operations and Regulatory Affairs.

[FR Doc. E9-21954 Filed 9-10-09; 8:45 am]

BILLING CODE 4120-01-P